DEPARTMENT OF COMMERCE

International Trade Administration

[A-485-805]

Carbon and Alloy Seamless Standard, Line and Pressure Pipe (Under 4.5 Inches) From Romania: Final Determination of No Shipments; 2017-2018

AGENCY: Enforcement and Compliance, International Trade Administration, Department of Commerce.

SUMMARY: The Department of Commerce (Commerce) determines that there were no shipments of carbon and alloy seamless standard, line and pressure pipe (under 4.5 inches) (small diameter seamless pipe) from Romania during the period of review (POR) August 1, 2017 through July 31, 2018.

DATES: Applicable October 22, 2019.

FOR FURTHER INFORMATION CONTACT: Katherine Johnson or Samantha Kinney, AD/CVD Operations, Office VIII, Enforcement and Compliance, International Trade Administration, U.S. Department of Commerce, 1401 Constitution Avenue NW, Washington, DC 20230; telephone: (202) 482-4929 or (202) 482-2285, respectively.

SUPPLEMENTARY INFORMATION:

Background

Commerce published the Preliminary Results on July 1, 2019.¹ For events subsequent to the Preliminary Results, see Commerce's Issues and Decision Memorandum.²

¹ See Carbon and Alloy Seamless Standard, Line and Pressure Pipe (Under 4.5 Inches) from Romania: Preliminary Determination of No Shipments; 2017-2018, 84 FR 28007 (June 17, 2019) (Preliminary Results).

² See Memorandum, “Carbon and Alloy Seamless Standard, Line and Pressure Pipe (Under 4.5 Inches) from Romania: Issues and Decision Memorandum for the Final Determination of No Shipments; 2017-2018,” dated concurrently with, and hereby adopted by, this notice (Issues and Decision Memorandum).

Scope of the Order

The product covered by the order is small diameter seamless pipe. A full description of the scope of the order is contained in the Issues and Decision Memorandum.

Analysis of Comments Received

In the Issues and Decision Memorandum, we addressed all issues raised in parties' case and rebuttal briefs. In the Appendix to this notice, we provide a list of the issues raised by parties. The Issues and Decision Memorandum is a public document and is on file electronically via Enforcement and Compliance's Antidumping and Countervailing Duty Centralized Electronic Service System (ACCESS). ACCESS is available to registered users at https://access.trade.gov and in the Central Records Unit (CRU), Room B8024 of the main Commerce building. In addition, a complete version of the Issues and Decision Memorandum can be accessed directly on the internet at http://enforcement.trade.gov/frn/index.html. The signed Issues and Decision Memorandum and the electronic versions of the Issues and Decision Memorandum are identical in content.

Final Determination of No Shipments

In the Preliminary Results, we found that neither ArcelorMittal Tubular Products Roman S.A. (ArcelorMittal) nor Silcotub S.A. (Silcotub) made shipments of the subject merchandise to the United States during the POR. Also, in the Preliminary Results, we stated that consistent with our practice, it was not appropriate to rescind the review with respect to ArcelorMittal and Silcotub, but rather to complete the review and issue appropriate instructions to Customs and Border Protection (CBP) based on the final results of this review.³

³ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

After issuing the Preliminary Results, we received no information that contradicted our preliminary results. Therefore, for these final results, we continue to find that neither ArcelorMittal nor Silcotub made shipments of the subject merchandise to the United States during the POR.

Assessment Rates

Commerce determines, and CBP shall assess, antidumping duties on all appropriate entries of subject merchandise in accordance with these final results of review.⁴ Consistent with Commerce's clarification to its assessment practice, because we determined that ArcelorMittal and Silcotub had no shipments of subject merchandise to the United States during the POR, for entries of subject merchandise during the POR produced, but not exported by, ArcelorMittal and Silcotub, we will instruct CBP to liquidate any entries at the all-others rate if there is no rate for the intermediate company(ies) involved in the transaction.⁵

⁴ See 19 CFR 351.212(b).

⁵ For a full discussion, see Antidumping and Countervailing Duty Proceedings: Assessment of Antidumping Duties, 68 FR 23954 (May 6, 2003).

We intend to issue instructions to CBP 15 days after the date of publication of the final results of this review.

Cash Deposit Requirements

The following deposit requirements will be effective for all shipments of the subject merchandise entered, or withdrawn from warehouse, for consumption on or after the publication date of the final results of this administrative review, as provided by section 751(a)(2)(C) of the Act: (1) The cash deposit rates for ArcelorMittal and Silcotub will remain unchanged from the rate assigned to them in the most recently completed review of those companies; (2) for merchandise exported by manufacturers or exporters not covered in this review but covered in a prior segment of the proceeding, the cash deposit rate will continue to be the company-specific rate published for the most recently completed segment; (3) if the exporter is not a firm covered in this review, a prior review, or the original investigation, but the manufacturer is, then the cash deposit rate will be the rate established for the most recently completed segment for the manufacturer of the merchandise; and (4) the cash deposit rate for all other manufacturers or exporters will continue to be 13.06 percent, the all-others rate established in the less-than-fair-value investigation. These cash deposit requirements, when imposed, shall remain in effect until further notice.

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.221(b)(5).

Dated: October 15, 2019.
Jeffrey I. Kessler,
Assistant Secretary for Enforcement and Compliance.

Appendix

List of Topics Discussed in the Issues and Decision Memorandum

I. Summary

II. Background

III. Scope of the Order

IV. Discussion of the Issue: Certification of No Shipments

V. Recommendation

[FR Doc. 2019-22991 Filed 10-21-19; 8:45 am]

BILLING CODE 3510-DS-P